LEGAL SERVICES CORPORATION

Sunshine Act Meetings of the Board of Directors and Four of the Board's Committees

TIMES AND DATES: The Legal Services Corporation Board of Directors and four of the Board's Committees will meet on October 26-27, 2007 in the order set forth in the following schedule, with each meeting commencing shortly after adjournment of the immediately preceding meeting.

PUBLIC OBSERVATION BY TELEPHONE: Members of the public that wish to listen to the open portions of the meetings live may do so by following the telephone call-in directions given below. You are asked to keep your telephone muted to eliminate background noises. Comments from the public may from time to time be solicited by the presiding Chairman.

Call-In Directions for Open Sessions

Friday, October 26, 2007

• Call toll-free number 1-877-416-4070;

• When prompted, enter the following numeric pass code: 8575458;

• When connected to the call, please “MUTE” your telephone immediately.

Saturday, October 27, 2007

• Call toll-free number 1-877-416-4704;

• When prompted, enter the following numeric pass code: 4594318;

• When connected to the call, please “MUTE” your telephone immediately.

Meeting Schedule

Friday, October 26, 2007

Time: 1:30 p.m.¹

¹ Please note that all times in this notice are Eastern Standard Time.

1. Provision for the Delivery of Legal Services Committee (Provisions Committee).

2. Board of Directors.²

² The meeting of the Board of Directors will commence on Friday, October 26th and be continued and concluded on Saturday, October 27th.

Saturday, October 28, 2007

Time: 8:30 a.m.¹

3. Annual Performance Reviews Committee (Performance Reviews Committee).

4. Operations & Regulations Committee.

5. Finance Committee.³

³ It is expected that the Finance Committee will recess for lunch and will reconvene at approximately 1:30 p.m. Depending on the length of the preceding meetings, however, it is possible that the Committee's meeting could begin earlier or later than 1:30 p.m.

6. Board of Directors.

Location: The Portland Regency Hotel, 20 Milk Street, Portland, Maine.

Status of Meetings: Open, except as noted below.

Status:

October 26-27, 2007 Board of Directors Meetings—Open, except that portions of the meetings of the Board of Directors may be closed to the public pursuant to a vote of the Board of Directors to take up several agenda items in executive/closed sessions. At the closed session on October 26, 2007, the Board will interview finalists for the position of LSC Inspector General, and will consider and may act on the selection of the Inspector General.

At the closed session October 27, 2007, the Board will hear a staff report on the U.S. Government Accountability Office's draft report on LSC grants management, consider and may act on the General Counsel's report on potential and pending litigation involving LSC, consider and may act on Resolution 2007-012, which would authorize the LSC President to receive compensation from a non-LSC source, and be briefed regarding the former LSC program in American Samoa.⁴ Verbatim written transcripts of the sessions will be made. The transcript of any portions of the closed sessions falling within the relevant provisions of the Government in the Sunshine Act, 5 U.S.C. 552b(c)(6), (9)(B) and (10), and the corresponding provisions of the Legal Services Corporation's implementing regulation, 45 CFR 1622.5(e), (g) and (h), will not be available for public inspection. The transcript of any portions not falling within the cited provisions will be available for public inspection. A copy of the General Counsel's Certifications that the closings are authorized by law will be available upon request.

⁴ Any portion of the closed session consisting solely of staff briefings does not fall within the Sunshine Act's definition of the term “meeting” and, therefore, the requirements of the Sunshine Act do not apply to such portion of the closed session. 5 U.S.C. 552(b)(a)(2) and (b). See also 45 CFR 1622.2 & 1622.3.

Matters to be Considered:

Friday, October 26, 2007

Provision for the Delivery Of Legal Services Committee

Agenda

Open Session

1. Approval of agenda.

2. Approval of the Committee's meeting minutes of July 27, 2007.

3. Staff Update on activities implementing the LSC Private Attorney Involvement Action Plan—Help Close the Justice Gap: Unleash the Power of Pro Bono.

4. Staff Update on Leadership Mentoring Pilot Program.

5. Panel Presentation on Recruitment and Retention in LSC programs Innovative Projects at Pine Tree Legal Assistance:

▪ Hon. Frank M. Coffin Fellowship Program. Presenters: Charles Miller, Managing Partner, Bernstein Shur. William Plouffe, Partner, Drummon Woodsum & MacMahon.

▪ Medical-Legal Partnership for Children (MLPC). Presenters: Ellen Lawton, Executive Director, MLPC, Boston Medical Center, Lauren A. Smith, MD, MPH, Medical Director, MLPC, Boston Medical Center, Sara Meerse, KIDS LEGAL, Pine Tree Legal Assistance.

▪ Pine Tree Legal Assistance (PTLA) Retention Incentive Leave. Presenters: Nan Heald, Executive Director, PTLA, Thomas Kelley, Litigation Director, PTLA, Juliet Holmes-Smith, Director, Family Unit, PTLA.

6. Public comment.

7. Consider and act on other business.

8. Consider and act on adjournment of meeting.

Board of Directors

Agenda

Open Session

1. Approval of agenda.

2. Consider and act on whether to authorize an Executive Session of the Board of Directors to take up the items listed below, under Closed Session, and under the Closed Session heading of the agenda for the Board's meeting of Saturday, October 27, 2007.

Closed Session

3. Interview and discuss finalists for the position of LSC Inspector General.

4. Consider and act on the selection of an LSC Inspector General.

5. Consider and act on any matters relating to the hiring of LSC Inspector General.

6. Consider and act on motion to adjourn meeting.

Saturday, October 27, 2007

Performance Reviews Committee

Agenda

Open Session

1. Approval of Agenda.

2. Consider and act on a process for evaluation of the LSC President.

3. Consider and act on other business.

4. Consider and act on adjournment of meeting.

Operations and Regulations Committee

Agenda

Open Session

1. Approval of agenda.

2. Approval of the minutes of the Committee's July 28, 2007 meeting.

3. Approval of the minutes of the Committee's September 11, 2007 meeting.

4. Consider and act on initiation of a rulemaking to adopt “lesser sanctions”.

a. Staff report.

b. OIG comment.

c. Public comment.

5. Staff report on an LSC corporate compliance program.

6. Staff report on the continuity of operations plan.

7. Consider and act on locality pay issues.

8. Discussion of OIG Report on IPAs.

9. Consider and act on other business.

10. Other public comment.

11. Consider and act on adjournment of meeting.

Finance Committee

Agenda

Open Session

1. Approval of agenda.

2. Approval of the minutes of the Committee's meetings of July 28, 2007 and September 17, 2007.

3. Consider and act on FY 2007 budgetary adjustments.

—Presentation by David Richardson.

—Comments by Victor M. Fortuno.

4. Presentation on LSC's Financial Reports for the Year Ending September 30, 2007.

—Presentation by David Richardson.

5. Staff report on status of FY 2008 appropriations process.

—Presentation by John Constance.

6. Consider and act on Resolution 2007-009, Temporary Operating Budget for FY 2008.

—Presentation by David Richardson and Charles Jeffress.

7. Consider and act on Resolution 2007-010, Resolution Authorizing Basic Field Grants for FY 2008 Upon Passage of the FY 2008 Appropriations Bill.

—Comments by Charles Jeffress.

8. Consider and act on Resolution 2007-008, the LSC FY 2009 Budget Request.

9. Staff report on financial statement standards.

—Presentation by David Richardson.

—Comments by Dutch Merryman.

10. Consider and act on recommendation to the Board to establish an audit committee or assign audit committee functions to the Finance Committee.

—Comments by Victor M. Fortuno, Charles Jeffress, Dutch Merryman.

11. Consider and act on proposed amendment to LSC Act regarding Level V of the Executive Schedule and proposed resolution concerning compensation for members of the Board.

—Presentation by Charles Jeffress.

—Comments by John Constance.

12. Staff report on the selection of a new administrator for LSC's 403(b) savings plan.

—Presentation by Charles Jeffress.

13. Consider and act on Resolution 2007-011, Increase in Maximum Salary Redirection Amount for FlexAmerica Health Care Reimbursement Fund.

—Presentation by Charles Jeffress.

14. Consider and act on invitations to LSC meetings in January 2008 and September 2008.

—Presentation by Charles Jeffress.

15. Consider and act on other business.

16. Public comment.

17. Consider and act on adjournment of meeting.

Board of Directors

Agenda

Open Session

1. Approval of agenda.

2. Approval of minutes of the Open Session of the Board's meeting of July 27, 2007.

3. Approval of minutes of the Executive Session of the Board's meeting of July 27, 2007.

4. Approval of minutes of the Open Session of the Board's meeting of July 28, 2007.

5. Approval of minutes of the Executive Session of the Board's meeting of July 28, 2008.

6. Approval of minutes of the Board's Telephonic meeting of September 11, 2007.

7. Chairman's Report.

8. Members' Reports.

9. President's Report.

10. Acting Inspector General's Report.

11. Consider and act on the report of the Committee on the Provision for the Delivery of Legal Services.

12. Consider and act on the report of the Finance Committee.

13. Consider and act on the report of the Operations & Regulations Committee.

14. Consider and act on the report of the Performance Reviews Committee.

15. Consider and act on proposed protocol for Board member access to corporate records.

16. Consider and act on Board follow-up on recommendations to the Board contained in the report issued by the GAO on LSC governance.

17. Consider and act on other business.

18. Public comment.

Closed Session

19. Staff report on the Government Accountability Office's (GAO) draft report on LSC grants management.

20. Consider and act on General Counsel's report on potential and pending litigation involving LSC.

21. Consider and act on Resolution #2007-012 authorizing receipt of non-LSC compensation by the President.

22. Briefing on former LSC program in American Samoa.

23. Consider and act on motion to adjourn meeting.

CONTACT PERSON FOR INFORMATION: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: October 17, 2007.
Victor M. Fortuno,
Vice President & General Counsel.

[FR Doc. 07-5208 Filed 10-17-07; 1:55 pm]

BILLING CODE 7050-01-P